DEPARTMENT OF ENERGY

Federal Energy Regulatory Commission

[Project No. 2016-044 Washington]

City of Tacoma; Notice of Intent To Prepare Environmental Impact Statement

November 16, 2000.

On December 27, 1999, the City of Tacoma (Tacoma) filed an application for a new license for the continued operation of the 462-megawatt Cowlitz River Hydroelectric Project (FERC No. 2016-044). On September 11, 2000, Tacoma filed an Offer of Settlement for the new license. The project is located on the Cowlitz River in Lewis County, Washington. About 5 acres are included within the Gifford Pinchot National Forest and about 59 acres are located on lands owned by the Bureau of Land Management.

In accordance with the National Environmental Policy Act (NEPA) and the Commission's regulations for using the alternative licensing process,¹ Tacoma held public scoping meetings for the Cowlitz River Hydroelectric Project on May 5, 6, and 7, 1998, in Lacey, Chehalis, and Mossyrock, Washington, respectively.² Commission staff, state, federal and local agencies, tribes, and the public participated in the meetings. These scoping meetings and an open and extensive collaborative relicensing process were used to define the issues and alternatives addressed in Tacoma's Environmental Assessment and Offer of Settlement. In addition, the Commission solicited comments on the license application and the Offer of Settlement by notice of March 15, 2000, and September 19, 2000, respectively.³ Following the public scoping process, the Commission staff determined that licensing the Cowlitz Project could constitute a major federal action significantly affecting the quality of the human environment. Therefore, the staff intends to prepare an Environmental Impact Statement for the project in accordance with the NEPA. The staff's EIS will objectively consider both site-specific and cumulative environmental impacts of the projects and reasonable alternatives, and will include economic and engineering analyses.

¹ 81 FERC ¶61,103 (1997).

² 63 FR 19,274 (April 17, 1998).

³ At the request of the parties to the settlement, the deadline for filing comments on the application was extended twice by notices of March 10, 2000, and July 12, 2000.

A draft EIS will be issued and circulated for review by all interested parties. All comments filed on the draft EIS will be analyzed by the staff and considered in the final EIS. The staff's conclusions and recommendations will then be presented for the consideration of the Commission in reaching its final licensing decision.

This notice informs all interested individuals, organizations, and agencies with environmental expertise and concerns, that: (1) the Commission staff has decided to prepare an EIS; and (2) the scoping conducted on the Cowlitz River Hydroelectrical Project by Tacoma and comments filed with the Commission on the application and the Offer of Settlement still apply and will be taken into account in the EIS.

Any questions regarding this notice may be directed to David Turner at (202) 219-2844.

Linwood A. Watson, Jr.,
Acting Secretary.

[FR Doc. 00-29855 Filed 11-21-00; 8:45 am]

BILLING CODE 6717-01-M